DEPARTMENT OF TRANSPORTATION

Federal Highway Administration

Environmental Impact Statement: Fairfax County, Virginia

AGENCY: Federal Highway Administration, DOT.

ACTION: Notice of intent.

SUMMARY: The Federal Highway Administration (FHWA) is issuing this notice to advise the public of its intent to prepare an Environmental Impact Statement in cooperation with the Virginia Department of Transportation (VDOT) for proposed improvements to the Capital Beltway (Interstate 495) in Fairfax County, Virginia for approximately 14 miles from Backlick Road (Route 617) to the American Legion Memorial Bridge at the Virginia/Maryland State line.

FOR FURTHER INFORMATION CONTACT: Edward Sundra, Environmental Specialist, Sr., Federal Highway Administration, Post Office Box 10249, Richmond, Virginia 23240-0249, Telephone 804-775-3338.

SUPPLEMENTARY INFORMATION: In 1997, a Major Investment Study (MIS) was completed in accordance with 23 CFR 450.318 which examined the transportation problems associated with the Capital Beltway in Virginia and identified possible solutions to address those problems as well as future transportation needs in the area. The MIS resulted in the determination that highway improvements which promote high occupancy vehicle (HOV) and bus transit use would be the most effective transportation investment to serve current and future demand on the Capital Beltway. The MIS also recommended that potential rail transit improvements serving the Capital Beltway corridor be studied on a regional basis by an appropriate transit agency or multi-jurisdictional team.

In 1998, FHWA and VDOT initiated the National Environmental Policy Act (NEPA) process for the proposed recommendations resulting from the MIS. Based on a preliminary assessment of the project area and potential environmental impacts, FHWA and VDOT cooperatively agreed to prepare an Environmental Assessment in accordance with 40 CFR 1501.3(b) and 23 CFR 771.119(a) which permits the preparation of an Environmental Assessment when the significance of the environmental impacts are not clearly established and the preparation of the Environmental Assessment would assist agency decision making regarding the need for an Environmental Impact Statement.

To provide additional definition to the MIS recommendations, alternatives for interchange improvements, mainline configurations, and direct HOV access were developed and evaluated. Following an extensive and ongoing public involvement and outreach effort involving citizen workshops and information meetings, newsletters, a telephone hot-line, a website, and business/civic/neighborhood meetings, the alternatives were refined through an iterative screening process which determined the feasibility of implementing the various combinations of mainline configurations and interchange concepts. This screening process was based on engineering, operational, and environmental criteria. The most effective mainline and interchange combinations were combined into several “end-to-end” alternatives and carried forward for more detailed environmental analysis. Based on the initial results of this environmental analysis, it was determined that the proposed improvements to the Capital Beltway would result in greater environmental impacts than originally anticipated requiring the preparation of an Environmental Impact Statement.

Alternatives being considered for improving the Capital Beltway include various combinations of the following: Widening the existing roadway, implementing lane management strategies such as HOV lanes or express/local lanes, reconstructing existing interchanges, and providing new direct access points for HOV traffic. Other alternatives being considered include the Transportation System Management alternative and the No-Build alternative. Additional information on the scope of the proposed Capital Beltway improvements and the alternatives that will be evaluated in the Environmental Impact Statement is available on the Internet at http://project1.parsons.com/capitalbeltway.

This Environmental Impact Statement will replace the Environmental Assessment currently being prepared by FHWA and VDOT for the proposed Capital Beltway while building upon the scoping, engineering, and environmental work as well as the public involvement effort conducted to date. As part of the early coordination for the Environmental Assessment, letters describing the proposed action and soliciting input were sent to the appropriate Federal, State and local agencies, private organizations, citizens, and interest groups who have expressed or are known to have an interest in this proposal. Coordination with these agencies, organizations and individuals will continue as the Environmental Impact Statement is prepared. All Federal, State, and local agencies contacted during the early coordination for the Environmental Assessment will be notified of the FHWA's intent to prepare an Environmental Impact Statement for the proposed Capital Beltway improvements and provided an additional opportunity to comment on its proposed scope. Similar notice will be given to private organizations, citizens, and interest groups that have previously expressed or are known to have interest in this proposal. In addition, public input will continue to be solicited through the ongoing public involvement and outreach effort. Public hearings will be held when the draft Environmental Impact Statement is completed. Public notices will be given of the times and places of the hearings, and the draft Environmental Impact Statement will be available for public and agency review and comment prior to the public hearings. Finally, preparation of this Environmental Impact Statement will be coordinated closely with the Maryland State Highway Administration's Capital Beltway Corridor Transportation Study, the Virginia Department of Rail and Public Transportation's Capital Beltway Corridor Rail Feasibility Study, and the Environmental Impact Statement currently being prepared for the Dulles Corridor Rapid Transit Project.

Although no formal scoping meeting is planned at this time, comments are invited from all interested parties to ensure that the full range of issues related to this proposed action are identified and taken into account. Comments or questions concerning the proposed action and draft Environmental Impact Statement should be directed to FHWA at the address provided above.

(Catalog of Federal Domestic Assistance Program Number 20.205, Highway Planning and Construction. The regulations implementing Executive Order 12372 regarding intergovernmental consultation on Federal programs and activities apply to this proposed action)

Authority: 23 U.S.C. § 315; 49 CFR 1.48.

Issued on June 30, 2000.
Edward S. Sundra,
Environmental Specialist, Sr.

[FR Doc. 00-17485 Filed 7-10-00; 8:45 am]

BILLING CODE 4910-22-M